SECURITIES AND EXCHANGE COMMISSION

[File No. 500-1]

In the Matter of GenX Corporation; Order of Suspension of Trading

July 2, 2009.

It appears to the Securities and Exchange Commission that there is a lack of current and accurate information concerning the securities of GenX Corporation because of questions about the accuracy and adequacy of publicly disseminated information appearing in stock promotional materials, and elsewhere, concerning among other things the company's purported partnerships and other relationships with certain individuals and entities.

The Commission is of the opinion that the public interest and the protection of investors require a suspension of trading in the securities of the company listed above.

Therefore, it is ordered, pursuant to Section 12(k) of the Securities Exchange Act of 1934, that trading in the securities of the above listed company is suspended for the period from 9:30 a.m. EDT on July 2, 2009, through 11:59 p.m. EDT, on July 16, 2009.

By the Commission.
Jill M. Peterson,
Assistant Secretary.

[FR Doc. E9-16040 Filed 7-2-09; 4:15 pm]

BILLING CODE P